ENVIRONMENTAL PROTECTION AGENCY

[FRL-9949-20-OA]

Notification of a Public Teleconference of a Work Group Under the Auspices of the Chartered Science Advisory Board

AGENCY: Environmental Protection Agency (EPA).

ACTION: Notice.

SUMMARY: The EPA Science Advisory Board (SAB) Staff Office announces a public teleconference of a Work Group under the auspices of the Chartered Science Advisory Board to gather and review information on shipboard ballast water treatment system efficacy and related conclusions in the 2011 SAB report, Efficacy of Ballast Water Treatment Systems: A Report by the EPA Science Advisory Board.

DATES: The public teleconference for the Work Group of the Chartered SAB will be conducted on Friday, August 12, 2016, from 12:00 p.m. to 4:00 p.m. (Eastern Time).

Location: The public teleconference will be conducted by telephone only.

FOR FURTHER INFORMATION CONTACT: Any member of the public wishing to obtain information concerning the public teleconference may contact Mr. Thomas Carpenter, Designated Federal Officer (DFO), EPA Science Advisory Board Staff Office (1400R), U.S. Environmental Protection Agency, 1200 Pennsylvania Avenue NW., Washington, DC 20460; by telephone/voice mail at (202) 564-4885 or at carpenter.thomas@epa.gov. General information about the SAB as well as any updates concerning the teleconference announced in this notice may be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a federal advisory committee chartered under the Federal Advisory Committee Act (FACA), 5 U.S.C., App. 2. At the request of the SAB, a Work Group composed of a subset of SAB members will review the underlying data on ballast water treatment efficacy to assist the SAB in considering information regarding conclusions about shipboard treatment efficacy in the SAB report, Efficacy of Ballast Water Treatment Systems: A Report by the Science Advisory Board (EPA-SAB-11-009). The Work Group will gather and review information, analyze the report's underlying data and related conclusions and develop recommendations for deliberation by the Chartered Science Advisory Board at a future meeting. The SAB is not seeking new data regarding ballast water treatment system efficacy and will focus its inquiry on analyzing the data underlying the report and the related conclusions. The SAB Staff Office notes that neither the Federal Advisory Committee Act (FACA) nor EPA policy requires meetings of Work Groups under the auspices of a chartered federal advisory committee to provide notice or conduct public meetings. Public notice of this meeting of the Work Group is being provided to assist the Work Group in obtaining public comment from interested parties on the topic under consideration.

Availability of Meeting Materials: The agenda and materials in support of this teleconference will be available on the EPA Web site at http://www.epa.gov/sab in advance of the teleconference.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Oral Statements: In general, individuals or groups requesting an oral presentation at a teleconference will be limited to three minutes. Each person making an oral statement should consider providing written comments as well as their oral statement so that the points presented orally can be expanded upon in writing. Interested parties should contact Mr. Thomas Carpenter, DFO, in writing (preferably via email) at the contact information noted above, by August 4, 2016 to be placed on the list of public speakers. Written Statements: Written statements should be supplied to the DFO, preferably via email, at the contact information noted above one week before the teleconference so that the information may be made available to the Board members for their consideration. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Thomas Carpenter at (202) 564-4885 or carpenter.thomas@epa.gov. To request accommodation of a disability, please contact Mr. Carpenter preferably at least ten days prior to the teleconference to give EPA as much time as possible to process your request.

Dated: July 11, 2016.
Thomas H. Brennan,
Deputy Director, EPA Science Advisory Staff Office.

[FR Doc. 2016-16929 Filed 7-15-16; 8:45 am]

BILLING CODE 6560-50-P